FEDERAL MARITIME COMMISSION

Ocean Transportation Intermediary License Revocations and Terminations

The Commission gives notice that the following Ocean Transportation Intermediary licenses have been revoked or terminated for the reason shown pursuant to section 19 of the Shipping Act of 1984 (46 U.S.C. 40101) effective on the date shown.

License No.: 3388NF.

Name: OCI Forwarding Services, Inc. dba Metro Line.

Address: 1225 Greenbriar Drive, Suite E, Addison, IL 60101.

Date Revoked: May 30, 2013.

Reason: Failed to maintain a valid bond.

License No.: 3714F.

Name: A & E International, Inc.

Address: 16449 1-45 Feeder South. Centerville, TX 75833.

Date Revoked: June 1, 2013.

Reason: Voluntary Surrender of License.

License No.: 4097F.

Name: Ashby, Wendy Lyn dba Cargocare.

Address: 107 Woodcrest Drive, Chehalis, WA 98532.

Date Revoked: June 6, 2013.

Reason: Failed to maintain a valid bond.

License No.: 4313F.

Name: Lopez, Miguel Angel dba Marine Air Land International Services.

Address: 3478 Investment Blvd., Hayward, CA 94545.

Date Revoked: June 8, 2013.

Reason: Failed to maintain a valid bond.

License No.: 17123N.

Name: Express Freight International, Inc.

Address: 2027 Williams Street, San Leandro, CA 94577.

Date Revoked: May 24, 2013.

Reason: Failed to maintain a valid bond.

License No.: 017292N.

Name: Pudong Trans USA, Inc.

Address: 9660 Flair Drive, Suite 328, El Monte, CA 91731.

Date Revoked: May 26, 2013.

Reason: Failed to maintain a valid bond.

License No.: 019906F.

Name: Atlantic Air Express, LLC.

Address: 1893 Country Route 1, Westtown, NY 10998.

Date Revoked: June 18, 2013.

Reason: Voluntary Surrender of License.

License No.: 021156F.

Name: Aprile USA, Inc. dba Allied Seafreight Line.

Address: 1370 Broadway, Suite 1400, New York, NY 10018.

Date Revoked: June 1, 2013.

Reason: Failed to maintain a valid bond.

License No.: 021995F.

Name: Deakins Trans-Global Logistics, LLC.

Address: 6817 South Point Parkway, Suite 101, Jacksonville, FL 32216.

Date Revoked: June 8, 2013.

Reason: Failed to maintain a valid bond.

License No.: 022605N.

Name: AK Solutions Inc.

Address: 10034 Halston Drive, Sugarland, TX 77498.

Date Revoked: May 27, 2013.

Reason: Failed to maintain a valid bond.

License No.: 022714N.

Name: Seapassion Logistics Inc.

Address: 20819 Currier Road, Unit 400, City of Industry, CA 91789.

Date Revoked: June 3, 2013.

Reason: Failed to maintain a valid bond.

License No.: 023800F.

Name: Joseph P. Solomon dba Equitorial Import-Export.

Address: 20526 76th Avenue West, Suite A, Edmonds, WA 98026.

Date Revoked: June 11, 2013.

Reason: Failed to maintain a valid bond.

License No.: 023846NF.

Name: International Cargo Shipping LLC.

Address: 11354 Burbank Blvd., Suite C, North Hollywood, CA 91601.

Date Revoked: June 6, 2013.

Reason: Failed to maintain a valid bond.

James A. Nussbaumer,
Deputy Director, Bureau of Certification and Licensing.

[FR Doc. 2013-17309 Filed 7-18-13; 8:45 am]

BILLING CODE 6730-01-P